DEPARTMENT OF HEALTH AND HUMAN SERVICES

National Institutes of Health

Center for Scientific Review; Cancellation of Meeting

Notice is hereby given of the cancellation of the Center for Scientific Review Special Emphasis Panel, June 24, 2005, 9 a.m. to June 24, 4 p.m., Marriott Bethesda North Conference Center, 5701 Marinelli Rd, Bethesda, MD 20852 which was published in the Federal Register on May 26, 2005, 70 FR 30475-30477.

The meeting is cancelled due to the reassignment of the applications.

Dated: May 31, 2005.
LaVerne Y. Stringfield,
Director, Office of Federal Advisory Committee Policy.

[FR Doc. 05-11220 Filed 6-6-05; 8:45 am]

BILLING CODE 4140-01-M